DEPARTMENT OF HEALTH AND HUMAN SERVICES

Centers for Disease Control and Prevention

Board of Scientific Counselors, National Center for Health Marketing (BSC, NCHM)

In accordance with section 10(a)(2) of the Federal Advisory Committee Act (Pub. L. 92-463), CDC announces the following meeting of the aforementioned committee:

Times and Dates: 9 a.m.-4:30 p.m., December 8, 2008. 9 a.m.-3 p.m., December 9, 2008.

Place: CDC, Tom Harkin Global Communications Center, 1600 Clifton Road, NE., Building 21, Auditorium A (Room 1204A), Atlanta, Georgia 30333.

Status: Open to the public, limited only by the space available. The meeting room accommodates approximately 60 people.

Purpose: The Secretary, Department of Health and Human Services (HHS), and, by delegation, the Director, Centers for Disease Control and Prevention (CDC), are authorized under Section 301 (42 U.S.C. 241) and Section 311 (42 U.S.C. 243) of the Public Health Service Act (PHSA), as amended to: develop and implement disease prevention and control, environmental health, and health promotion and health education activities designed to improve the health of the people of the United States. Under these and additional PHSA and other authorities, CDC acts by identifying and defining preventable health problems; maintaining active surveillance of diseases through epidemiologic and laboratory investigations and data collection, analysis, and distribution; conducting operational research aimed at developing and testing effective disease prevention, control, and health promotion programs; administering a national occupational safety and health program; controlling the introduction and spread of infectious diseases; and providing consultation and assistance to other nations and international agencies to assist in improving their disease prevention and control, environmental health, and health promotion activities. CDC carries out these functions through a number of Coordinating Centers/Offices and National Centers and Institutes with expertise and responsibilities in specific areas.

Matters to be Discussed: The agenda will include discussions on program activities, including scientific programs, that will assist in consolidating and refining NCHM vision, mission, goals, organizational structure and expanding and implementing its science for the National Center for Health Marketing; and discussions related to the National Center's role in preparedness, response and recovery with regards to an outbreak of pandemic influenza

Agenda items are tentative and subject to change.

Contact Person for More Information: Dionne R. Mason, Committee Management Specialist, NCHM, 1600 Clifton Road, Mail Stop E-21, Atlanta, Georgia 30333, Telephone: (404) 498-2314, Fax (404) 498-2221. The deadline for notification of attendance is November 20, 2008.

The Director, Management Analysis and Services Office, has been delegated the authority to sign Federal Register notices pertaining to announcements of meetings and other committee management activities for both CDC and the Agency for Toxic Substances and Disease Registry.

Dated: November 4, 2008.
Elaine L. Baker,
Director, Management Analysis and Services Office, Centers for Disease Control and Prevention (CDC).

[FR Doc. E8-26803 Filed 11-10-08; 8:45 am]

BILLING CODE 4163-18-P